DEPARTMENT OF LABOR

Office of the Secretary

Submission for OMB Review; Comment Request

October 19, 2001.

The Department of Labor (DOL) has submitted the following public information collection requests (ICRs) to the Office of Management and Budget (OMB) for review and approval in accordance with the Paperwork Reduction Act of 1995 (Pub. L. 104-13, 44 U.S.C. Chapter 35). A copy of this ICR, with applicable supporting documentation, may be obtained by calling the Department of Labor. To obtain documentation contact Darrin King at (202) 693-4129 or e-mail: King-Darrin@dol.gov.

Comments should be sent to Office of Information and Regulatory Affairs, Attn: Stuart Shapiro, OMB Desk Officer for OSHA, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration (OSHA).

Type of Review: Extension of a currently approved collection.

Title: Bloodborne Pathogen Standard (Needle Stick Safety and Prevention Act).

OMB Number: 1218-0246.

Affected Public: Business or other for-profit, Not-for-profit institutions; Federal Government; and State, local, or tribal government.

Type of Response: Recordkeeping; Reporting; and Third-party disclosure.

Number of Respondents: 502,724.

Requirement | Number of annual responses | Frequency | Average response time (hours) | Annual burden hours
Exposure Control Plan—29 CFR 1910.1030(c)(1)
Employee Solicitation | 502,724 | Annual & On occasion | .25 | 125,681
Employee Response | 3,744,887 | Annual & On occasion | .25 | 936,222
Written Update of Plan | 502,724 | Annual & On occasion | .25 | 125,681
Recordkeeping—29 CFR 1910.1030(h)(5)
Sharp Injury Log | 590,164 | On occasion | .08333 | 49,180
Total | 5,340,499 |  |  | 1,236,764

Total Annualized Capital/Startup Costs: $0.

Total Annual Costs (operating/maintaining systems or purchasing services): $0.

Description: The Needlestick Safety and Prevention Act (NSPA) directs OSHA to amend the Bloodborne Pathogens standard to require that employers update their exposure control plans to reflect how employers implement new developments in control technology; solicit input from employees responsible for direct patient care in the identification, evaluation, and the selection of engineering and work practice controls; and, for certain employers, to establish and maintain a log of percutaneous injuries from contaminated sharps.

Ira L. Mills,
Departmental Clearance Officer.

[FR Doc. 01-26925 Filed 10-24-01; 8:45 am]

BILLING CODE 4510-26-M